DEPARTMENT OF THE INTERIOR

Bureau of Land Management

[NV-040-02-5101-ER-F330; (N-74943)]

Notice of Realty Action; Notice of Availability of Draft Amendment and Draft Environmental Impact Statement; Correction

AGENCY: Bureau of Land Management, Interior.

ACTION: Notice; correction.

SUMMARY: The Bureau of Land Management published a document in the Federal Register May 31, 2002 (67 FR 38145) which announced the availability of the Draft Toquop Disposal Amendment to the Caliente Management Framework Plan and Draft Environmental Impact Statement for the Toquop Energy Project, located in Lincoln, Clark, and Washoe Counties. The Federal Register Notice of Realty Action, Notice of Availability, included public meeting dates and locations. The July 9 and July 10 meeting locations were incorrect.

FOR FURTHER INFORMATION CONTACT: Dan Netcher, Team Lead, Bureau of Land Management, Ely Field Office, HC 33 Box 33500, Ely, NV 89301-9408.

Correction

In the Federal Register May 31, 2002 (67 FR 38145) on page 38146, in the first column correct the DATES caption to read:

DATES: The DEIS will be made available to the public on May 31, 2002. Copies of the DEIS will be mailed to individuals, agencies, or companies who previously requested copies. Mailed comments on the DEIS must be postmarked by August 29, 2002. Written comments on the document should be addressed to Gene A. Kolkman, District Manager, Bureau of Land Management, Ely Field Office, HC 33, Box 33500, Ely, NV 89301-9408.

Oral and/or written comments may also be presented at four scheduled public meetings to be held at the following locations.

—Monday, July 8, 2002, from 7 p.m. to 9 p.m.; City Hall, 100 Depot Avenue, Caliente, Nevada

—Tuesday, July 9, 2002, from 7 p.m. to 9 p.m.; Las Vegas BLM Field Office, 4701 Torrey Pines Drive, Las Vegas, Nevada

—Wednesday, July 10, 2002, from 7 p.m. to 9 p.m.; City Hall, 10 E. Mesquite Boulevard, Mesquite, Nevada

—Thursday, July 11, 2002, from 7 p.m. to 9 p.m.; Airport Plaza Hotel, 1981 Terminal Way, Reno, Nevada

Dated: June 4, 2002.
Gene A. Kolkman,
Ely Field Manager.

[FR Doc. 02-14619 Filed 6-19-02; 8:45 am]

BILLING CODE 4310-HC-P